DEPARTMENT OF THE INTERIOR

Bureau of Land Management

[NV-930-1430-ET; NVN-75849;5-08807]

Public Land Order No. 7637; Withdrawal of Public Land for the Logandale Wildland Fire Station, NV

AGENCY: Bureau of Land Management, Interior.

ACTION: Public land order.

SUMMARY: This order withdraws 10 acres of public land from surface entry and mining for a period of 20 years, to protect the Bureau of Land Management's Logandale Wildland Fire Station.

EFFECTIVE DATE: May 16, 2005.

FOR FURTHER INFORMATION CONTACT: Dennis J. Samuelson, BLM Nevada State Office, P.O. Box 12000, Reno, Nevada 89520, 775-861-6532.

Order

By virtue of the authority vested in the Secretary of the Interior by Section 204 of the Federal Land Policy and Management Act of 1976, 43 U.S.C. 1714 (2000), it is ordered as follows:

1. Subject to valid existing rights, the following described public land is hereby withdrawn from settlement, sale, location, or entry under the general land laws, including the United States mining laws (30 U.S.C. Ch. 2 (2000)), but not from leasing under the mineral leasing laws, for a period of 20 years, for the Bureau of Land Management to protect a wildland fire station facility:

Mount Diablo Meridian

T. 14 S., R. 67 E.,

Sec. 32, W½NW¼NE¼SW¼ and E½NE¼NW¼SW¼.

The area described contains 10 acres in Clark County.

2. The withdrawal made by this order does not alter the applicability of those public land laws governing the use of the land under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

Authority: 43 U.S.C. 1714(a); 43 CFR 2310.3-3(b)(1).

Dated: April 29, 2005.
Rebecca W. Watson,
Assistant Secretary—Land and Minerals Management.

[FR Doc. 05-9689 Filed 5-13-05; 8:45 am]

BILLING CODE 4310-HC-P